DEPARTMENT OF COMMERCE

National Oceanic and Atmospheric Administration

[RIN 0648-AW83]

Atlantic Highly Migratory Species; Environmental Assessment for Amendment 4 to the 2006 Consolidated Atlantic Highly Migratory Species Fishery Management Plan

AGENCY: National Marine Fisheries Service (NMFS), National Oceanic and Atmospheric Administration (NOAA), Commerce.

ACTION: Notice of intent.

SUMMARY: NMFS announces its intent to prepare an Environmental Assessment (EA) for Amendment 4 to the 2006 Consolidated Atlantic Highly Migratory Species (HMS) Fishery Management Plan (FMP) instead an Environmental Impact Statement (EIS) as previously announced through publication of a Notice of Intent published on May 27, 2008. NMFS intends to prepare the EA under the National Environmental Policy Act (NEPA) to assess the potential effects on the human environment of proposed alternatives and actions under Amendment 4 to the 2006 Consolidated HMS FMP. The EA will analyze potential environmental impacts of various alternatives to permitting and reporting requirements for commercial HMS fisheries in U.S. waters of the Caribbean as well as examine management alternatives to improve catch reporting and data collection in Puerto Rico and the U.S. Virgin Islands consistent with the Magnuson-Stevens Fishery Conservation and Management Act (Magnuson-Stevens Act), the Atlantic Tunas Convention Act (ATCA), and other relevant Federal laws.

FOR FURTHER INFORMATION CONTACT: Greg Fairclough by phone: (727) 824-5399, or by fax: (727) 824-5398.

SUPPLEMENTARY INFORMATION: The Atlantic shark fisheries are managed under the authority of the Magnuson-Stevens Act, and the Atlantic tuna, swordfish, and billfish fisheries are managed under the Magnuson-Stevens Act and ATCA. The Consolidated HMS FMP is implemented by regulations at 50 CFR Part 635. Copies of the Consolidated HMS FMP are available from NMFS on request.

NMFS announces its intent to prepare an Environmental Assessment (EA) for Amendment 4 to the 2006 Consolidated Atlantic Highly Migratory Species (HMS) Fishery Management Plan (FMP) instead an Environmental Impact Statement (EIS) as previously announced through publication of a Notice of Intent published on May 27, 2008 (73 FR 30381). NMFS intends to prepare the EA under the National Environmental Policy Act (NEPA) to assess the potential effects on the human environment of proposed alternatives and actions under Amendment 4 to the 2006 Consolidated HMS FMP. The EA will analyze potential environmental impacts of various alternatives to permitting and reporting requirements for commercial HMS fisheries in U.S. waters of the Caribbean as well as examine management alternatives to improve catch reporting and data collection in Puerto Rico and the U.S. Virgin Islands consistent with the Magnuson-Stevens Fishery Conservation and Management Act (Magnuson-Stevens Act), the Atlantic Tunas Convention Act (ATCA), and other relevant Federal laws.

After consideration of substantive comments received through formal scoping and other means, NMFS has determined that an EA would provide an appropriate level of NEPA review for Amendment 4 to the Consolidated HMS FMP and preparation of an EIS is not necessary. NMFS anticipates that the proposed action would have a low level of potential adverse environmental impacts due to the limited geographic area of the Caribbean HMS fishery, small size of the vessels involved, the relatively low number of known participants, and the use of traditional handgears. Additionally, the potential adverse impacts to protected species would be expected to be minimal.

Dated: July 7, 2011.
Margo Schulze-Haugen,
Acting Director, Office of Sustainable Fisheries, National Marine Fisheries Service.

[FR Doc. 2011-17662 Filed 7-12-11; 8:45 am]

BILLING CODE 3510-22-P